NATIONAL LABOR RELATIONS BOARD

Privacy Act of 1974; System of Records

AGENCY: National Labor Relations Board.

ACTION: Notice of revised Privacy Act System of Records.

SUMMARY: The National Labor Relations Board (NLRB) Office of Inspector General (OIG) is revising its Privacy Act System of Records, NLRB 18, Office of Inspector General Investigative Files, to include as routine uses the disclosure of information (1) to the public when a legitimate public interest exists; (2) to the public when it is necessary for the protection from imminent threat to life or property; (3) to members of the President's Council on Integrity and Efficiency/Executive Council on Integrity and Efficiency (PCIE/ECIE) for the purpose of accurate reporting to the President and Congress on the activities of the Inspectors General; (4) to members of the PCIE/ECIE, the Department of Justice, the Federal Bureau of Investigation, or the U.S. Marshals Service, as necessary, for investigative qualitative assessment review. The PCIE/ECIE is establishing a peer review process to ensure that adequate internal safeguards and management procedures continue to exist. The objectives of the review are to assess whether adequate internal safeguards and management procedures are met, foster high-quality investigations and investigative processes, ensure that the highest levels of professionalism are maintained, and promote consistency in investigative standards and practices within the Inspector General investigative community.

The revision also includes the addition of routine uses to allow the disclosure of information to the Agency's legal representative; other Federal agencies in response to their requests in connection with background investigations; State and local bar associations for disciplinary proceeding and inquiries; the Office of Government Ethics for any purpose consistent with that office's mission; in association with the collection of debt, Program Fraud Civil Remedies Act litigation; and to the Office of Management and Budget when seeking advice regarding the Agency's obligations under the Privacy Act.

EFFECTIVE DATE: The changes to this System of Records will become effective without further notice 30 days from the date of this publication (July 10, 2003), unless comments are received on or before that date which result in further modifications.

ADDRESSES: Written comments regarding proposed revisions to the NLRB Privacy Act Systems of Records, NLRB-18 may be submitted to the Executive Secretary, National Labor Relations Board, 1099 14th Street, NW., Suite 11610, Washington, DC 20570. Copies of all comments received will be available for inspection between 8:30 a.m. and 5 p.m. in Room 11600.

FOR FURTHER INFORMATION CONTACT: David P. Berry, Counsel to the Inspector General, Office of Inspector General, National Labor Relations Board, 1099 14th Street, NW., Suite 9820, Washington, DC 20570, (202) 273-1960.

SUPPLEMENTARY INFORMATION: This publication is in accordance with the Privacy Act requirement that agencies publish their amended systems in the Federal Register when there is a revision, change, or addition. NLRB is amending the Routine Uses of System of Records, NLRB 18 Office of Inspector General Investigative files previously published at 57 FR 11523 (Apr. 3, 1992).

The Routine Use Notice is being amended to specifically allow for a legitimate public interest the disclosure of names of indicted or convicted individuals in the Office of Inspector General (OIG) Semiannual Report, monthly reports, and press releases or other forms of communication with the media. NLRB's objective in allowing disclosure of names is to enhance the deterrence of similar crimes against the Agency. In addition, the amended routine uses would allow the disclosure of information to the PCIE/ECIE for the preparation of reports to the President and Congress on the activities of the Inspectors General. Finally, the amendments would allow the disclosure of information to members of the PCIE/ECIE, the Department of Justice, the Federal Bureau of Investigation, or the U.S. Marshals Service, as necessary, for the purpose of investigative qualitative assessment reviews to ensure adequate internal safeguards and management procedures are maintained.

The revision also includes the addition of routine uses to allow the disclosure of information to the Agency's legal representative; other Federal agencies in response to their requests in connection with background investigations; State and local bar associations for disciplinary proceeding and inquiries; the Office of Government Ethics for any purpose consistent with that office's mission; in association with the collection of debt, Program Fraud Civil Remedies Act litigation; and to the Office of Management and Budget when seeking advice regarding the Agency's obligations under the Privacy Act.

The notice contains minor typographical changes. Several data elements have also been updated and clarified: NLRB 18, Office of Inspector General Investigative Files, safeguards, retention and disposal, system manager(s) and address, and record source categories.

System Name:

Office of Inspector General Investigative Files—NLRB 18.

Routine Uses of Records Maintained in the System, Including Categories of Users and the Purposes of Such Uses:

These records may be disclosed as a routine use to other agencies, offices, establishments, and authorities, whether Federal, State, or local, (including State or local bar associations and other professional, regulatory, or disciplinary bodies) authorized or charged with the responsibility to investigate, litigate, prosecute, enforce, or implement a statute, rule, regulation, or order, where the record or information, by itself or in connection with other records or information, indicates a violation or potential violation of law, whether criminal, civil, administrative, or regulatory in nature, and whether arising by general statute or particular program statute, or by regulation, rule, or order pursuant thereto.

These records may be disclosed, as a routine use, to the Agency's legal representative, to include the Department of Justice and other outside counsel, where the Agency is a party in litigation or has an interest in litigation when either (a) NLRB, or any component thereof; (b) any employee of NLRB in his or her official capacity; (c) any employee of NLRB in his or her individual capacity, where the Department of Justice has agreed or is considering a request to represent the employee; or (d) the United States, where NLRB determines that litigation is likely to affect NLRB or any of its components, is a party to litigation or has an interest in such litigation, and NLRB determines that the use of such records by the Department of Justice is relevant and necessary to litigation; provided however, that in each case, NLRB determines that disclosures to the records to the Department of Justice is a use of the information contained in the records that is compatible with the purpose for which the records were collected.

These records may routinely be disclosed to other Federal agencies, in response to their requests in connection with the conduct of background checks. Disclosure will be made only to the extent that the information is relevant and necessary to the requesting agencies' function.

These records may be disclosed, as a routine use, to the Office of Government Ethics for any purpose consistent with that office's mission, including the compilation of statistical data.

These records may be disclosed, as a routine use, to debt collection contractors for the purpose of collecting delinquent debts as authorized by the Debt Collection Act of 1982, 31 U.S.C. 3718. These records may be disclosed, as a routine use, to agency personnel responsible for bringing Program Fraud Civil Remedies Act litigation, to the persons constituting the tribunal hearing such litigation or any appeals therefrom, and to counsel for the defendant party in any such litigation.

These records may be disclosed, as a routine use, for a legitimate public interest to the news media and public to provide information on events in the criminal process following an indictment, the filing of formal charges by another means, or a conviction; or when necessary for protection from imminent threat to life or property. These records may be disclosed, as a routine use, to members of the President's Council on Integrity and Efficiency/Executive Council on Integrity and Efficiency, for the preparation of reports to the President and Congress on the activities of the Inspectors General. These records may be disclosed, as a routine use, to members of the President's Council on Integrity and Efficiency/Executive Council on Integrity and Efficiency, the Department of Justice, the Federal Bureau of Investigation, or the U.S. Marshals Service, as necessary, for the purpose of conducting qualitative assessment reviews of the investigative operations of NLRB OIG to ensure that adequate internal safeguards and management procedures are maintained.

These records may be disclosed, as a routine use, to the Office of Management and Budget in order to obtain that office's advice regarding the NLRB's obligations under the Privacy Act.

Dated: June 4, 2003.
By Direction of the Board.
Lester A. Heltzer,
Acting Executive Secretary, National Labor Relations Board.

NLRB 18

System Name:

Office of Inspector General Investigative Files.

System Location:

Office of Inspector General, National Labor Relations Board, 1099 14th Street, NW., Suite 9820, Washington, DC 20570, (202) 273-1960.

Categories of Individuals Covered by the System:

Subject individuals include, but are not limited to, current and former employees; contractors, subcontractors, their agents, or employees; and others whose actions affect the NLRB, its programs, and operations.

Categories of the Records in the System:

All correspondence relevant to the investigation; all internal staff memoranda; copies of all subpoenas issued during the investigation; affidavits, statements from witnesses, and transcripts of testimony taken in the investigation and accompanying exhibits; documents and records or copies obtained during the investigation; working papers of the staff; other documents and records relating to the investigations, and records relating to “Hotline” complaints.

Authority for Maintenance of the System:

Pub. L. 95-452, as amended, 5 U.S.C. app. at 1184 (1988); 5 U.S.C. 552a.

Purpose(s):

These records are used by the Inspector General's Office in the investigation of programs and operations of the National Labor Relations Board pursuant to the Inspector General Act Amendments of 1988, 5 U.S.C. app. at 1184 (1988).

Routine Uses of Records Maintained in the System, Including Categories of Users and the Purposes of Such Uses:

Other agencies, offices, establishments, and authorities, whether Federal, State, or local, (including State or local bar associations and other professional, regulatory, or disciplinary bodies) authorized or charged with the responsibility to investigate, litigate, prosecute, enforce, or implement a statute, rule, regulation, or order, where the record or information, by itself or in connection with other records or information, indicates a violation or potential violation of law, whether criminal, civil, administrative, or regulatory in nature, and whether arising by general statute or particular program statute, or by regulation, rule, or order pursuant thereto.

Any source from which information is requested in the course of an investigation, to the extent necessary to identify the individual, inform the source of the nature and purpose of the investigation, and to identify the type of information requested.

Independent auditors or other private firms with which the Office of Inspector General has contracted to carry out an independent audit or noncriminal investigation, or to analyze, collate, aggregate, or otherwise refine data collected in the system of records. These contractors will be required to maintain Privacy Act safeguards with respect to such records.

A court, magistrate, or administrative tribunal in the course of presenting evidence, including disclosures to opposing counsel or witnesses in the course of civil discovery, litigation, or settlement negotiations, or in connection with criminal law proceedings, when the NLRB determines it is relevant and necessary to the litigation.

A court or other adjudicative body before which the NLRB is authorized to appear, when either (a) the NLRB, or any component thereof, (b) any employee of the NLRB in his or her official capacity, (c) any employee of the NLRB in his or her individual capacity, where the NLRB has agreed to represent the employee, or (d) the United States, where the NLRB determines that litigation is likely to affect the NLRB or any of it components, is a party to litigation or has interest in such litigation, and the NLRB determines that disclosure of the records to a court or other adjudicative body is relevant, necessary, and compatible with the purpose for which the records were collected.

The Department of Justice for use in litigation when either (a) the NLRB, or any component thereof, (b) any employee of the NLRB in his or her official capacity, (c) any employee of the NLRB in his or her individual capacity, where the Department of Justice has agreed to represent the employee, or (d) the United States, where the NLRB determines that litigation is likely to affect the Agency or any of its components, is a party to litigation or has an interest in such litigation, and the use of such records by the Department of Justice is deemed by the NLRB to be relevant and necessary to the litigation, provided that in each case the NLRB determines that disclosure of the records to the Department of Justice is a use of the information contained in the records that is compatible with the purpose for which the records were collected.

These records may be disclosed, as a routine use, to the Agency's legal representative, to include the Department of Justice and other outside counsel, where the Agency is a party in litigation or has an interest in litigation when either (a) NLRB, or any component thereof; (b) Any employee of NLRB in his or her official capacity; (c) Any employee of NLRB in her or her individual capacity, where the Department of Justice has agreed or is considering a request to represent the employee; or (d) The United States, where NLRB determines that litigation is likely to affect NLRB or any of its components, is a party to litigation or has an interest in such litigation, and NLRB determines that the use of such records by the Department of Justice is relevant and necessary to litigation; provided however, that in each case, NLRB determines that disclosures of the records to the Department of Justice is a use of the information contained in the records that is compatible with the purpose for which the records were collected.

These records may routinely be disclosed to other Federal agencies, in response to their requests in connection with the conduct of background checks. Disclosure will be made only to the extent that the information is relevant and necessary to the requesting agencies' function.

These records may be disclosed, as a routine use, to the Office of Government Ethics for any purpose consistent with that office's mission, including the compilation of statistical data.

These records may be disclosed, as a routine use, to debt collection contractors for the purpose of collecting delinquent debts as authorized by the Debt Collection Act of 1982, 31 U.S.C. 3718.

These records may be disclosed, as a routine use, to agency personnel responsible for bringing Program Fraud Civil Remedies Act litigation, to the persons constituting the tribunal hearing such litigation or any appeals therefrom, and to counsel for the defendant party in any such litigation.

A member of Congress or to a congressional staff member in response to an inquiry of the congressional office made at the written request of an individual about whom the record is maintained. In such cases, the member has no greater right to access to the record than does the individual.

These records may be disclosed, as a routine use, for a legitimate public interest to the news media and public to provide information on events in the criminal process following an indictment, the filing of formal charges by another means, or a conviction; or when necessary for protection from imminent threat to life or property.

These records may be disclosed, as a routine use, to members of the President's Council on Integrity and Efficiency/Executive Council on Integrity and Efficiency, for the preparation of reports to the President and Congress on the activities of the Inspectors General.

These records may be disclosed, as a routine use, to members of the President's Council on Integrity and Efficiency/Executive Council on Integrity and Efficiency, the Department of Justice, the Federal Bureau of Investigation, or the U.S. Marshals Service, as necessary, for the purpose of conducting qualitative assessment reviews of the investigative operations of NLRB OIG to ensure that adequate internal safeguards and management procedures are maintained.

These records may be disclosed, as a routine use, to the Office of Management and Budget in order to obtain that office's advice regarding the NLRB's obligations under the Privacy Act.

The Department of Justice for the purpose of obtaining its advice in the event that the NLRB concludes it is desirable or necessary in determining whether particular records are required to be disclosed under the Freedom of Information Act.

Policies and Practices for Storing, Retrieving, Accessing, Retaining, and Disposing of Records in the System:

Storage:

The Office of Inspector General Investigative Files consists of paper records maintained in files, records on computer disks and diskettes, and records on computer tapes.

Retrievability:

The records are retrievable by case number and individual name.

Safeguards:

These records are only available to those persons whose official duties require such access. The records are kept in a limited access area during on duty hours. During off-duty hours they are kept inside locked offices, in locked file cabinets, or in safes. Computer records can be accessed only through use of confidential procedures and passwords.

Retention and Disposal:

As prescribed in NLRB Records Schedule, Job Number N1-025-01-1, OIG Investigative Files are generally destroyed 10 years after a case is closed. Cases that are unusually significant for documenting major violations of criminal law or ethical standards are offered to the National Archives for permanent retention.

System Manager(s) and Address:

Office of the Inspector General, National Labor Relations Board, 1099 14th Street, NW., Suite 9820, Washington, DC 20570, (202) 273-1960.

Notification Procedure:

The OIG Investigative Files are exempt pursuant to 5 U.S.C. 552a (j)(2) and (k)(2); however, consideration will be given to requests addressed to the system manager. The request should include the individual's name and date of birth.

Record Access Procedure:

See “Notification Procedures” above. Requestors should specify the record contents being sought. Under section 7(b) of the Inspector General Act of 1978 (Pub. L. 95-452), the identity of an employee or other personal source who makes a complaint or provides information to the Office of the Inspector General (OIG) via the OIG “Hotline” is exempt from disclosure unless the Inspector General determines such disclosure is unavoidable during the course of an investigation.

Contesting Record Procedures:

Contact the system manager at the above address, and identify the record, specify the information to be contested, and the corrective action sought with supporting justification.

Record Source Categories:

The Office of Inspector General collects information from a wide variety of sources, including information from the NLRB and other Federal, state, and local agencies, witnesses, complainants and other nongovernmental sources.

Systems Exemptions from Certain Provisions of the Act:

Pursuant to 5 U.S.C. 552a(j)(2), this system of records, to the extent it consists of investigatory material compiled for criminal law enforcement purposes, is exempted from all provisions of the Privacy Act of 1974, 5 U.S.C. 552a, except subsections (b), (c) (1) and (2), (e)(4) (A) through (F), (e) (6), (7), (9), (10), and (11), and (i).

Pursuant to 5 U.S.C. 552a(k)(2), this system of records, to the extent it consists of investigatory material compiled for law enforcement purposes other than material within the scope of the exemption at 5 U.S.C. 552a(j)(2), is exempted from the following provisions of the Privacy Act of 1974, 5 U.S.C. 552a (c)(3), (d), (e)(1), (e)(4) (G), (H), and (I), and (f).

These exemptions are contained in 29 CFR part 102.

[FR Doc. 03-14479 Filed 6-9-03; 8:45 am]

BILLING CODE 7545-01-P